DEPARTMENT OF JUSTICE

Notice of Extension of Comment Period on Consent Decree Under the Clean Water Act

Under 28 CFR 50.7, notice is hereby given that the comment period for the purposed Consent Decree lodged on June 22, 2006, with the United States District Court for the District of Puerto Rico in United States v. Puerto Rico Aqueduct and Sewer Authority (PRASA), Civil Action No. 06-1624 (SEC), is being extended from August 7, 2006 through September 15, 2006. The original notice of this proposed settlement, which summarizes the settlement and identifies where copies of the Consent Decree may be obtained, was published in the Federal Register on July 7, 2006, Vol. 71, No. 130, Pg. 38660-38661. Comments should be addressed to the Assistant Attorney General of the Environment and Natural Resources Division, Department of Justice, P.O. Box 7611, U.S. Department of Justice, Washington, DC 20004-7611, and should refer to United States v. PRASA, Civil Action No. 06-1624 (SEC), D.J. Ref. 90-5-1-1-08385, and should be received by September 15, 2006.

Bruce S. Gelber,
Chief, Environmental Enforcement Section, Environment and Natural Resources Division.

[FR Doc. 06-7296 Filed 8-30-06; 8:45am]

BILLING CODE 4410-15-M